DEPARTMENT OF HOMELAND SECURITY

Coast Guard

33 CFR Part 165

[Docket No. USCG-2014-0393]

RIN 1625-AA00

Eighth Coast Guard District Annual Safety Zones; Guyasuta Days Festival; Allegheny River Mile 5.7 to 6.0; Pittsburgh, PA

AGENCY: Coast Guard, DHS.

ACTION: Notice of Enforcement of Regulation.

SUMMARY: The Coast Guard will enforce a safety zone for the Guyasuta Days Festival Fireworks on the Allegheny River, from mile 5.7 to 6.0, extending 200 feet from the right descending bank. This zone will be in effect on August 9, 2014 from 8:30 p.m. until 10:30 p.m. This zone is needed to protect vessels transiting the area and event spectators from the hazards associated with the Guyasuta Days Festival Land-based Fireworks. During the enforcement period, entry into, transiting, or anchoring in the safety zone is prohibited to all vessels not registered with the sponsor as participants or official patrol vessels, unless specifically authorized by the Captain of the Port (COTP) Pittsburgh or a designated representative.

DATES: The regulations in 33 CFR 165.801 will be enforced with actual notice on August 9, 2014.

FOR FURTHER INFORMATION CONTACT: If you have questions on this document of enforcement, call or email Ronald Lipscomb, Marine Safety Unit Pittsburgh, U.S. Coast Guard, at telephone (412) 644-5808, email Ronald.c.lipscomb1@uscg.mil.

SUPPLEMENTARY INFORMATION:

The Coast Guard will enforce the Safety Zone for the annual Guyasuta Days Festival Fireworks listed in 33 CFR 165.801 Table 1, Table No. 152; Sector Ohio Valley, No. 28.

Under the provisions of 33 CFR 165.801, entry into the safety zone listed in Table 1, Table No. 152; Sector Ohio Valley, No. 28 is prohibited unless authorized by the Captain of the Port or a designated representative. Persons or vessels desiring to enter into or passage through the safety zone must request permission from the Captain of the Port Pittsburgh or a designated representative. If permission is granted, all persons and vessels shall comply with the instructions of the Captain of the Port Pittsburgh or designated representative.

This document is issued under authority of 5 U.S.C. 552(a); 33 U.S.C. 1231; 46 U.S.C. Chapter 701, 3306, 3703; 50 U.S.C. 191, 195; 33 CFR 1.05-1, 6.04-1, 6.04-6, and 160.5; Public Law 107-295, 116 Stat. 2064; Department of Homeland Security Delegation No. 0170.1. In addition to this document in the Federal Register, the Coast Guard will provide the maritime community with advance notification of this enforcement period via Local Notice to Mariners and updates via Marine Information Broadcasts.

If the Captain of the Port Pittsburgh or designated representative determines that the Safety Zone need not be enforced for the full duration stated in this document of enforcement, he or she may use a Broadcast Notice to Mariners to grant general permission to enter the regulated area.

Dated: May 28, 2014.
L.N. Weaver,
Commander, U.S. Coast Guard, Captain of the Port, Pittsburgh.

[FR Doc. 2014-14175 Filed 6-16-14; 8:45 am]

BILLING CODE 9110-04-P